DEPARTMENT OF THE INTERIOR

Bureau of Land Management

[LLAZP01000.L12200000.EA0000; P01000-23-0001]

Notice of Temporary Closure of Public Lands in Maricopa County, AZ

AGENCY: Bureau of Land Management, Interior.

ACTION: Notice of temporary closure.

SUMMARY: As authorized under the provisions of the Federal Land Policy and Management Act of 1976, as amended, notice is hereby given that temporary closures will be in effect on public lands administered by the Bureau of Land Management (BLM), Hassayampa Field Office, to minimize the risk of potential collision during operation of the Vulture Mine Off-Road Challenge off-highway vehicle (OHV) race event, authorized under a special recreation permit (SRP).

DATES: The temporary closure will be in effect from 5 p.m., November 4, 2022, through 10 p.m., November 6, 2022, Mountain time.

FOR FURTHER INFORMATION CONTACT: Chris Gammage, Outdoor Recreation Planner; telephone (623) 580-5500; email: cgammage@blm.gov; or Irina Ford, Hassayampa Field Manager; Phoenix District Office, 2020 E Bell Road, Phoenix, AZ 85022; telephone (623) 580-5500; email: iford@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The temporary closure affects certain public lands within the Vulture Mine Recreation Management Zone in Maricopa County, Arizona. This action is necessary to ensure public safety during the Vulture Mine Off-Road Challenge OHV race event.

The temporary closure will be posted at main entry points to this area. Maps of the affected area and other documents associated with this temporary closure are available at the Hassayampa Field Office, which is located at the same address as the Phoenix District Office.

The event is authorized on public land under an SRP and in conformance with the Bradshaw-Harquahala Record of Decision and Approved Resource Management Plan and the Wickenburg Travel Management Plan.

Description of Race Course Closed Area: Areas subject to this temporary closure include the designated race course and public lands within the boundary defined by the race course. The race course begins at the intersection of BLM routes 9092F and 9090C traveling east along 9090C to 9090D going south and then east along 9090D to 9090; continue traveling along 9090 north to 9093A to 9274 traveling northeast to 9094, traveling southeast to 9195, south on 9195 to Vulture Mine Road (including the camping area to the west and east of the road which varies in width from 70 feet to 268 feet between the signs indicating “No Vehicles beyond this Point”), then north on 9195 to 9286, then traveling northeast to 9196, to 9192 then to route 9095 traveling north and west to 9089C to 9089A north to 9092B west to 9092 to 9092F and south returning to the beginning intersection with 9090C.

Temporary Closure: The designated race course and all areas within the boundary of the race course as described earlier are temporarily closed to public entry during the temporary closure period.

Exclusive Use: During the temporary closure, the affected area will be for the exclusive use of Vulture Mine Off-Road Challenge event officials, race participants, and vendors authorized under the event SRP. Anyone without an SRP authorizing use within the temporary closure area during the temporary closure period is prohibited from using the area.

Exceptions: The temporary closure does not apply to Federal, State, and local officers and employees in the performance of their official duties; members of organized rescue or firefighting forces in the performance of their official duties; Vulture Mine Off-Road Challenge event officials, race participants, or vendors authorized under the event SRP.

Enforcement: Any person who violates the temporary closure may be tried before a United States magistrate and fined in accordance with 18 U.S.C. 3571, imprisoned no more than 12 months under 43 U.S.C. 1733(a) and 43 CFR 8360.0-7, or both. Regulations will be enforced in accordance with 43 CFR 8364.1, and 43 CFR 8365.1-7; State or local officials may also impose penalties for violations of Arizona law.

Effect of Closure: The entire area encompassed by the designated race course and all areas within the race course as described earlier and in the time period as described earlier are temporarily closed to all public use, including pedestrian use and vehicles, unless specifically excepted as described earlier.

(Authority: 43 CFR 8364.1)

Irina Ford,
Field Manager.

[FR Doc. 2022-22007 Filed 10-7-22; 8:45 am]

BILLING CODE 4310-32-P